DEPARTMENT OF ENERGY

Federal Energy Regulatory Commission

[Docket No. RP03-429-001]

Transcontinental Gas Pipe Line Corporation; Notice of Compliance Filing

July 9, 2003.

Take notice that on July 3, 2003, Transcontinental Gas Pipe Line Corporation (Transco), tendered for filing as part of its FERC Gas Tariff, Third Revised Volume No.1, Substitute Tenth Revised Sheet No.349 and Substitute First Revised Sheet No. 349A to which tariff sheets are proposed to be effective July 1, 2003.

Transco states that the purpose of this filing is to comply with the Commission's letter order issued June 26, 2003 in the referenced docket related to Transco's Order No. 587-R compliance filing submitted on May 1, 2003. Transco states that in the June 26 Order, the Commission found that Transco generally complied with the requirements of Order No. 587-R but required that Transco file revised tariff sheets to make certain changes to the WGQ standards that Transco incorporated in its tariff.

Any person desiring to protest said filing should file a protest with the Federal Energy Regulatory Commission, 888 First Street, NE., Washington, DC 20426, in accordance with ¶ 385.211 of the Commission's Rules and Regulations. All such protests must be filed in accordance with ¶ 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17888 Filed 7-15-03; 8:45 am]

BILLING CODE 6717-01-P